DEPARTMENT OF TRANSPORTATION

Federal Aviation Administration

[Summary Notice No. PE-2000-50]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Ch. I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 23, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of part 11 of the Federal Aviation Regulations (14 CFR part 11).

Issued in Washington, DC, on September 26, 2000.
Donald P. Byrne,
Assistant Chief Counsel for Regulations.

Dispositions of Petitions

Docket No.: 30191.

Petitioner: Mt. Comfort Air Show.

Section of the FAR Affected: 14 CFR 135.251, 135.255, 135.353, and appendixes I and J to part 121

Description of Relief Sought/Disposition: To permit MCAS to conduct local sightseeing flights at Mt. Comfort Airport, Mt. Comfort, Indiana for its two-day charitable event in September 2000, for compensation of hire, without complying with certain anti-drug and alcohol misuse prevention requirements of part 135.

Grant, 09/15/00, Exemption No. 7351

Docket No.: 29395.

Petitioner: Iowa City Fling Service.

Section of the FAR Affected: 14 CFR 135.143(c)(2).

Description of Relief Sought/Disposition: To permit ICFS to operate certain aircraft under part 135 without a TSO-C112 (Mode S) transponder installed on those aircraft.

Grant, 09/11/00, Exemption No. 6852A

Docket No.: 30139.

Petitioner: Warbelow's Air Ventures, Inc.

Section of the FAR Affected: 14 CFR 135.143(c)(2).

Description of Relief Sought/Disposition: To permit WAV to operate certain aircraft under part 135 without a TSO-C112 (Mode S) transponder installed in the aircraft.

Grant, 09/11/00, Exemption No. 7344

Docket No.: 30165.

Petitioner: Denmark Volunteer Fire Department.

Section of the FAR Affected: 14 CFR 135.251, 135.255, 135.353, and appendixes I and J to part 121.

Description of Relief Sought/Disposition: To permit DVFD to conduct local sightseeing flights at Eastern Slopes Regional Airport, Fryeburg, Maine, for a one-day charitable event in September 2000, for compensation of hire, without complying with certain anti-drug and alcohol misuse prevention requirements of part 135.

Grant, 09/11/00, Exemption No. 7346

Docket No.: 30138.

Petitioner: American Air Charter, Inc.

Section of the FAR Affected: 14 CFR 135.143(c)(2).

Description of Relief Sought/Disposition: To permit AAC to operate certain aircraft under part 135 without a TSO-C112 (Mode S) transponder installed in the aircraft.

Grant, 09/11/00, Exemption No. 7345

Docket No.: 28485.

Petitioner: Polar Air Cargo, Inc.

Section of the FAR Affected: 14 CFR 121.583 (a)(8).

Description of Relief Sought/Disposition: To permit up to three dependents of Polar employees, who are accompanied by an employee sponsor traveling on official business only, and who are trained and qualified in the operation of the emergency equipment on Polar's Boeing-747 cargo aircraft, to be added to the list of persons specified in § 121.583(a)(8) that polar is authorized to transport without complying with the passenger-carrying airplane requirements in §§ 121.309(f), 121.310, 121.391, 121.571, and 121.587; the passenger-carrying operation requirements in §§ 121.157(c), 121.161, and 121.291; and the requirements pertaining to passengers in §§ 121.285, 121.313(f), 121.317, 121.547, and 121.573.

Grant, 09/08/00, Exemption No. 6530B

[FR Doc. 00-25078 Filed 9-28-00; 8:45 am]

BILLING CODE 4910-13-M